NUCLEAR REGULATORY COMMISSION

[Docket Nos. 50-277 and 50-278; NRC-2018-0130]

Exelon Generation Company, LLC; Peach Bottom Atomic Power Station Units 2 and 3

AGENCY: Nuclear Regulatory Commission.

ACTION: License renewal application; receipt.

SUMMARY: The U.S. Nuclear Regulatory Commission (NRC) has received an application for the subsequent license renewal of Renewed Facility Operating License Nos. DPR-44 and DPR-56, which authorize Exelon Generation Company, LLC (the applicant) to operate Peach Bottom Atomic Power Station Units 2 and 3 (Peach Bottom). The renewed licenses would authorize the applicant to operate Peach Bottom for an additional 20 years beyond the period specified in each of the current renewed licenses. The current renewed operating licenses for Peach Bottom expire as follows: Unit 2 on August 8, 2033, and Unit 3 on July 2, 2034.

DATES: The license renewal application referenced in this document was submitted on July 10, 2018.

ADDRESSES: Please refer to Docket ID NRC-2018-0130 when contacting the NRC about the availability of information regarding this document. You may obtain publicly-available information related to this document using any of the following methods:

• Federal Rulemaking Website: Go to http://www.regulations.gov and search for Docket ID NRC-2018-0130. Address questions about NRC dockets to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

FOR FURTHER INFORMATION CONTACT: Bennett M. Brady, Office of Nuclear Reactor Regulation, U.S. Nuclear Regulatory Commission, Washington, DC 20555-0001; telephone: 301-415-2941, email: Bennett.Brady@nrc.gov.

SUPPLEMENTARY INFORMATION: The NRC has received an application (ADAMS Package Accession No. ML18193A689) from Exelon Generation Company, LLC (Exelon or the applicant), dated July 10, 2018, filed pursuant to Section 103 of the Atomic Energy Act of 1954, as amended, and part 54 of title 10 of the Code of Federal Regulations, to renew the operating licenses for Peach Bottom. Renewal of the licenses would authorize the applicant to operate the facility for an additional 20-year period beyond the period specified in the respective current renewed operating licenses. The current renewed operating licenses for Peach Bottom expire as follows: Unit 2 on August 8, 2033, and Unit 3 on July 2, 2034. The Peach Bottom units are boiling water reactors located in Delta, PA, about 17.9 miles south of Lancaster, PA. The acceptability of the tendered application for docketing, and other matters, including an opportunity to request a hearing, will be the subject of subsequent Federal Register notices.

A copy of the subsequent license renewal application for Peach Bottom is also available for inspection near the site at the Harford County Public Library: Whiteford Branch, 2407 Whiteford Rd, Whiteford, MD 21160.

Dated at Rockville, Maryland, this 26th day of July 2018.
For the Nuclear Regulatory Commission.
Emmanuel C. Sayoc,
Acting Chief, License Renewal Projects Branch, Division of Materials and License Renewal, Office of Nuclear Reactor Regulation.

[FR Doc. 2018-16402 Filed 7-31-18; 8:45 am]

BILLING CODE 7590-01-P